DEPARTMENT OF TRANSPORTATION

Pipeline and Hazardous Materials Safety Administration

[Docket No. PHMSA-2008-0291]

Pipeline Safety: Information Collection Activities

AGENCY: Pipeline and Hazardous Materials Safety Administration, DOT.

ACTION: Notice and request for comments.

SUMMARY: In accordance with the Paperwork Reduction Act of 1995, PHMSA invites comments on a new information collection for the National Pipeline Registry. PHMSA is preparing to request Office of Management and Budget (OMB) approval for a new information collection.

DATES: Interested persons are invited to submit comments on or before February 11, 2011.

ADDRESSES: Comments may be submitted in the following ways:

E-Gov Web Site: http://www.regulations.gov. This site allows the public to enter comments on any Federal Register notice issued by any agency.

Fax: 1-202-493-2251.

Mail: Docket Management Facility; U.S. DOT, 1200 New Jersey Avenue, SE., West Building, Room W12-140, Washington, DC 20590-0001.

Hand Delivery: Room W12-140 on the ground level of the West Building, 1200 New Jersey Avenue, SE., Washington, DC, between 9 a.m. and 5 p.m., Monday through Friday, except Federal holidays.

Instructions: Identify the docket number, PHMSA-2008-0291, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments, go to http://www.regulations.gov at any time or to Room W12-140 on the ground level of the West Building, 1200 New Jersey Avenue, SE., Washington, DC, between 9 a.m. and 5 p.m., Monday through Friday, except Federal holidays. If you wish to receive confirmation of receipt of your written comments, please include a self-addressed, stamped postcard with the following statement: “Comments on PHMSA-2008-0291.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at DOT.

FOR FURTHER INFORMATION CONTACT: Cameron Satterthwaite by telephone at 202-366-1319, by fax at 202-366-4566, or by mail at U.S. DOT, PHMSA, 1200 New Jersey Avenue, SE., PHP-30, Washington, DC 20590-0001.

SUPPLEMENTARY INFORMATION: Section 1320.8(d), Title 5, Code of Federal Regulations requires PHMSA to provide interested members of the public and affected agencies an opportunity to comment on information collection and recordkeeping requests. This notice identifies a new information collection request that PHMSA will be submitting to OMB for approval. The information collection will be titled: “National Registry of Pipeline and Liquefied Natural Gas Operators.” PHMSA published a final rule in the Federal Register on November 26, 2010 (75 FR 72878), titled: “Pipeline Safety: Updates to Pipeline and Liquefied Natural Gas Reporting Requirements”. That final rule added two new sections, 49 CFR 191.21 and 195.64, to the pipeline safety regulations for the establishment of a National Pipeline Safety Registry, which will be used by operators to obtain an Operator Identification (OPID) number. PHMSA is proposing to use two forms as part of this information collection. For an initial OPID number, an online form titled: “OPID Assignment (PHMSA F-1000.1)” will be used. For operators with an OPID who wish to update their information, a form titled: “Operator Registry Notification (PHMSA F-1000.2)” will be used. Copies of these forms have been placed in the docket and are available for comment. The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity.

PHMSA requests comments on the following information collection:

Title: National Pipeline Registry.

OMB Control Number: Pending.

Type of Request: New information collection.

Abstract: PHMSA is requiring each operator to have an OPID number. The OPID number will contain detailed information on the operator. In addition, PHMSA is requesting that operators provide PHMSA with update notifications for certain changes to information initially provided by the operator.

Affected Public: Pipeline Operators.

Estimated number of responses: 2,753 operators.

Estimated annual burden hours: 5,506 hours.

Frequency of collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on December 3, 2010.
Linda Daugherty,
Deputy Associate Administrator for Policy and Programs.

[FR Doc. 2010-31129 Filed 12-10-10; 8:45 am]

BILLING CODE 4910-60-P